GENERAL SERVICES ADMINISTRATION

[OMB Control No. 3090-0246]

Submission for OMB Review; Comment Request Entitled Packing List Clause

AGENCY: Office of Acquisition Policy, GSA.

ACTION: Notice of request for extension to previously approved OMB Clearances (3090-0246)

SUMMARY: Under the provisions of the Paperwork Reduction Act of 1995 (44 U.S.C. Chapter 35), the General Services Administration, Office of Acquisition Policy has submitted to the Office of Management and Budget (OMB) a request to review and approve an extension of a previously approved information collection requirement concerning the General Services Administration Acquisition Regulation (GSAR) Packing List Clause.

DATES: Comment Due Date: October 15, 2001.

ADDRESSES: Comments regarding this burden estimate or any other aspect of this collection of information, including suggestions for reducing this burden, should be submitted to: Ed Springer, GSA Desk Officer, OMB, Room 10236, NEOB, Washington, DC 20503, and a copy of Stephanie Morris, General Services Administration, Acquisition Policy Division, 1800 F Street, NW., Room 4035, Washington, DC 20405.

FOR FURTHER INFORMATION CONTACT: Beverly Cromer, Office of Acquisition Policy (202) 208-6750.

SUPPLEMENTARY INFORMATION:

A. Purpose

The General Services Administration is requesting the Office of Management and Budget (OMB) to review and approve information collection, 3090-0246, concerning the GSAR Packing List clause. This clause requires a contractor to include a packing list that verifies placement of an order and identifies the items shipped. In addition to information contractors would normally include on packing lists, the identification of cardholder name, telephone number and the term “Credit Card” is required.

B. Annual Reporting Burden

Respondents: 4,000.

Annual Responses: 931,219.

Burden Hours: 7,760.

Obtaining Copies of Proposals

Requester may obtain a copy of the proposal from the General Services Administration, Regulatory Secretariat (MVP), 1800 F Street, NW., Room 4035, Washington, DC 20405, telephone (202) 501-4755. Please cite OMB Control No. 3090-0246, GSAR Packing List Clause.

Dated: August 9, 2001.
David A. Drabkin,
Deputy Associate Administrator, Office of Acquisition Policy, General Services Administration.

[FR Doc. 01-20677 Filed 8-15-01; 8:45 am]

BILLING CODE 6820-61-M